COMMODITY FUTURES TRADING COMMISSION

Global Markets Advisory Committee

AGENCY: Commodity Futures Trading Commission.

ACTION: Notice of meeting.

SUMMARY: The Commodity Futures Trading Commission (CFTC) announces that on May 19, 2020, from 10:00 a.m. to 2:00 p.m., the Global Markets Advisory Committee (GMAC) will hold a public meeting in the Conference Center at the Commodity Futures Trading Commission's headquarters in Washington, DC or via teleconference as circumstances permit. At this meeting, the GMAC will hear a presentation and consider recommendations from the GMAC's Subcommittee on Margin Requirements for Non-Cleared Swaps.

DATES: The meeting will be held on May 19, 2020, from 10:00 a.m. to 2:00 p.m. Members of the public who wish to submit written statements in connection with the meeting should submit them by May 26, 2020.

ADDRESSES: The meeting will take place in the Conference Center at the CFTC's headquarters, Three Lafayette Centre, 1155 21st Street NW, Washington, DC 20581 or via teleconference as circumstances permit. You may submit public comments, identified by “Global Markets Advisory Committee,” by any of the following methods:

• CFTC Website: http://comments.cftc.gov. Follow the instructions for submitting comments through the Comments Online process on the website.

• Mail: Christopher Kirkpatrick, Secretary of the Commission, Commodity Futures Trading Commission, Three Lafayette Center, 1155 21st Street NW, Washington, DC 20581.

• Hand Delivery/Courier: Same as Mail, above.

Any statements submitted in connection with the committee meeting will be made available to the public, including publication on the CFTC website, http://www.cftc.gov.

FOR FURTHER INFORMATION CONTACT: Andree Goldsmith, GMAC Designated Federal Officer, Commodity Futures Trading Commission, Three Lafayette Centre, 1155 21st Street NW, Washington, DC 20581; (202) 418-6624.

SUPPLEMENTARY INFORMATION: The meeting will be open to the public with seating on a first-come, first-served basis. Members of the public may also listen to the meeting by telephone by calling a domestic or international toll or toll-free number to connect to a live, listen-only audio feed. Call-in participants should be prepared to provide their first name, last name, and affiliation.

Domestic Toll Free: 1-877-951-7311.

International Toll and Toll Free: Will be posted on the CFTC's website, http://www.cftc.gov, on the page for the meeting, under Related Links.

Pass Code/Pin Code: 5887903.

The meeting time and agenda may change to accommodate other GMAC priorities. Additionally, the location of the GMAC meeting may change as circumstances require. For time, agenda and location updates, please visit the GMAC committee website at: https://www.cftc.gov/About/CFTCCommittees/GlobalMarketsAdvisory/gmac_meetings.html.

After the meeting, a transcript of the meeting will be published through a link on the CFTC's website at: http://www.cftc.gov. All written submissions provided to the CFTC in any form will also be published on the CFTC's website. Persons requiring special accommodations to attend the meeting because of a disability should notify the contact person above.

(Authority: 5 U.S.C. App. 2.)

Dated: April 20, 2020.
Robert Sidman,
Deputy Secretary of the Commission.

[FR Doc. 2020-08608 Filed 4-22-20; 8:45 am]

BILLING CODE 6351-01-P